DEPARTMENT OF TRANSPORTATION

Surface Transportation Board

[STB Finance Docket No. 35211]

Port Terminal Railroad—Operation Exemption—Rail Line of the Charleston Naval Complex Redevelopment Authority

Port Terminal Railroad (PTR), a Class III rail carrier, has filed a verified notice of exemption under 49 CFR 1150.41 to operate rail lines located on the former Charleston Naval Base Complex in Charleston County, SC. The main line of railroad (Navy Base Main Line) measures approximately 1.97 route miles.¹ There is also a run-around track that is approximately 1,000 feet in length and is bordered by the former navy base. PTR is a subsidiary of the South Carolina Division of Public Railways (SCPR).²

¹ The Navy Base Main Line is the line of track that: (1) Begins at the point of switch with the North Charleston Terminal Company Railroad (NCTC); (2) proceeds south and enters the North Gate 1 of the former navy base near Virginia Avenue; (3) continues to proceed south and crosses over the Noisette Creek; (4) then crosses Avenue D at grade and proceeds on the east side of Avenue D; (5) turns southeast near the intersection of Avenue D and Turnbull Avenue; (6) crosses Turnbull Avenue at grade; (7) then turns south along the west side of North Hobson Avenue and runs parallel to North Hobson Avenue; (8) then turns southeast and crosses North Hobson Avenue at grade; and (9) proceeds on the east side of North Hobson Avenue to the point where it enters the South Carolina State Ports Authority Veterans Terminal near Viaduct Road. The Navy Base Main Line connects in the north at Gate 1 to the NCTC, which is a joint operation between CSX Transportation, Inc. (CSXT), and Norfolk Southern Railway Company (NS), and to the west with CSXT. There is currently no connection between PTR and CSXT or NS to the south.

² SCPR, a Division of the South Carolina Department of Commerce, is organized and exists under the laws of the State of South Carolina. S.C. Code § 13-1-1310.

PTR certifies that its projected annual revenues as a result of this transaction will not result in the creation of a Class II or Class I rail carrier.

The earliest this transaction may be consummated is the March 5, 2009 effective date of the exemption (30 days after PTR filed the verified notice of exemption).³ In publishing this notice, the Board takes no position on the title dispute concerning some of the subject lines before the state court in South Carolina.

³ See 49 CFR 1150.42(b).

If the notice contains false or misleading information, the exemption is void ab initio. Petitions to revoke the exemption under 49 U.S.C. 10502(d) may be filed at any time. The filing of a petition to revoke will not automatically stay the transaction. Petitions for stay must be filed no later than February 26, 2009 (at least 7 days before the exemption becomes effective).

Pursuant to the Consolidated Appropriations Act, 2008, Public Law 110-161 section 193, 121 Stat. 1844 (2007), nothing in this decision authorizes the following activities at any solid waste rail transfer facility: Collecting, storing, or transferring solid waste outside of its original shipping container; or separating or processing solid waste (including baling, crushing, compacting, and shredding). The term “solid waste” is defined in section 1004 of the Solid Waste Disposal Act, 42 U.S.C. 6903.

An original and 10 copies of all pleadings, referring to STB Finance Docket No. 35211, must be filed with the Surface Transportation Board, 395 E Street, SW., Washington, DC 20423-0001. In addition, one copy of each pleading must be served on Derek F. Dean, Simons & Dean, 147 Wappoo Creek Drive, Suite 604, Charleston, SC 29412, and Jeffrey M. McWhorter, Port Terminal Railroad and South Carolina Division of Public Railways, 540 E. Bay Street, Charleston, SC 29403.

Board decisions and notices are available on our Web site at http://www.stb.dot.gov.

Decided: February 10, 2009.
By the Board, David M. Konschnik, Director, Office of Proceedings.
Jeffrey Herzig,
Clearance Clerk.

[FR Doc. E9-3235 Filed 2-18-09; 8:45 am]

BILLING CODE 4915-01-P